DEPARTMENT OF STATE

[Public Notice: 9155]

Advisory Committee on the Secretary of State's Strategic Dialogue With Civil Society; Notice of the Intent To Re-Establish an Advisory Committee

This is notice of the intent to re-establish the Advisory Committee on the Secretary of State's Strategic Dialogue with Civil Society. The Committee will serve the United States Government in a solely advisory capacity concerning engagement with and protection of civil society worldwide. Functions will include, but will not be limited to, providing information and advice on the effective integration of civil society into overall foreign policy, and providing information and advice on the Department of State's role in advancing, promoting, and protecting freedom of association and expression. The Department of State affirms that re-establishment of the Committee is necessary and in the public interest.

The Committee will consult with other interested parties, agencies, and interagency committees and groups of the United States Government, foreign governments, and with national and international private sector organizations and individuals, as the Department of State and the Committee decides are necessary or desirable.

The Committee will be comprised of up to twenty-four distinguished citizens from the private sector, philanthropy, nongovernmental organizations, think tanks and academia, providing the Secretary with a fresh perspective and insight apart from and independent of the State Department organization. It will not perform the function of any existing Department staff or committee.

For further information, please contact the Committee's Designated Federal Officer, Jim Thompson, at civilengagement@state.gov.

Dated: May 23, 2015.
James F. Thompson,
Director of Innovation, Secretary's Office of Global Partnerships, U.S. Department of State.

[FR Doc. 2015-13115 Filed 5-29-15; 8:45 am]

BILLING CODE 4710-10-P